DEPARTMENT OF COMMERCE

International Trade Administration

[A-423-812]

Certain Carbon and Alloy Steel Cut-To-Length Plate From Belgium: Preliminary Results and Rescission, in Part, of Antidumping Duty Administrative Review; 2023-2024

AGENCY: Enforcement and Compliance, International Trade Administration, Department of Commerce.

SUMMARY: The U.S. Department of Commerce (Commerce) preliminarily finds that certain carbon and alloy steel cut-to-length plate (CTL plate) from Belgium was sold at less than normal value (NV) during the period of review (POR) May 1, 2023, through April 30, 2024. Additionally, Commerce is rescinding this review in part, with respect to certain companies. We invite interested parties to comment on these preliminary results of review.

DATES: Applicable September 11, 2025.

FOR FURTHER INFORMATION CONTACT: Jerry Xiao, AD/CVD Operations, Office II, Enforcement and Compliance, International Trade Administration, U.S. Department of Commerce, 1401 Constitution Avenue NW, Washington, DC 20230; telephone: (202) 482-2273.

SUPPLEMENTARY INFORMATION:

Background

On May 25, 2017, Commerce published in the Federal Register the antidumping duty (AD) order on CTL plate from Belgium.¹ On May 2, 2024, Commerce published in the Federal Register a notice of opportunity to request an administrative review of the Order for the POR.² On July 5, 2024, based on timely requests for review in accordance with 19 CFR 351.221(c)(1)(i), we initiated an AD administrative review.³ This review covers seven producers and/or exporters of the subject merchandise.

¹ See Certain Carbon and Alloy Steel Cut-To-Length Plate from Austria, Belgium, France, the Federal Republic of Germany, Italy, Japan, the Republic of Korea, and Taiwan: Amended Final Affirmative Antidumping Determinations for France, the Federal Republic of Germany, the Republic of Korea, and Taiwan, and Antidumping Duty Orders, 82 FR 24096 (May 25, 2017) (Order).

² See Antidumping or Countervailing Duty Order, Finding, or Suspended Investigation; Opportunity to Request Administrative Review and Join Annual Inquiry Service List, 89 FR 35778 (May 2, 2024).

³ See Initiation of Antidumping and Countervailing Duty Administrative Reviews, 89 FR 55567 (July 5, 2024) (Initiation Notice).

On July 22, 2024, Commerce tolled certain deadlines in this administrative proceeding by seven days.⁴ On December 9, 2024, Commerce tolled the deadline for all administrative reviews by 90 days.⁵ On April 16, 2025, Commerce extended the preliminary results of this review by 120 days, until September 5, 2025.⁶ For a complete description of the events that followed the initiation of this review, see the Preliminary Decision Memorandum.⁷

⁴ See Memorandum, “Tolling of Deadlines for Antidumping and Countervailing Duty Proceedings,” dated July 22, 2024.

⁵ See Memorandum, “Tolling of Deadlines for Antidumping and Countervailing Duty Proceedings,” dated December 9, 2024.

⁶ See Memorandum, “Extension of Deadline for Preliminary Results of Antidumping Duty Administrative Review,” dated April 16, 2025.

⁷ See Memorandum, “Decision Memorandum for the Preliminary Results of the Administrative Review of the Antidumping Duty Order on Certain Carbon and Alloy Steel Cut-To-Length Plate from Belgium; 2022-2023,” dated concurrently with, and hereby adopted by, this notice (Preliminary Decision Memorandum).

For a full description of the methodology underlying our conclusions, see the Preliminary Decision Memorandum. A list of topics discussed in the Preliminary Decision Memorandum is included in the appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at https://access.trade.gov/public/FRNoticesListLayout.aspx

Scope of the Order

The product covered by the Order is CTL plate from Belgium. For a full description of the scope of the Order, see Preliminary Decision Memorandum.

Rescission of Administrative Review, in Part

Pursuant to 19 CFR 351.213(d)(3), it is Commerce's practice to rescind an administrative review of an AD order when there are no suspended entries of subject merchandise during the POR.⁸ Normally, upon completion of an administrative review, the suspended entries are liquidated at the AD assessment rate calculated for the review period.⁹ Therefore, for an administrative review to be conducted, there must be a suspended entry that Commerce can instruct CBP to liquidate at the AD assessment rate calculated for the review period.¹⁰

⁸ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

⁹ See 19 CFR 351.212(b)(1).

¹⁰ See 19 CFR 351.213(d)(3).

On July 5, 2024, we placed on the record U.S. Customs and Border Protection (CBP) data for entries of CTL plate from Belgium during the POR, showing no suspended entries during the POR for certain companies and invited interested parties to comment.¹¹ No interested party submitted comments regarding the CBP data. As there were no suspended entries of subject merchandise for the following companies: (1) Ancofer Stahlhandel GmbH.; (2) Eastman Chemical Technology BV; (3) NLMK Dansteel A.S.; (4) NV Hengelhoef Concrete Joints.; and (5) Steelforce Europe NV. On August 5, 2025, Commerce notified all interested parties of its intent to rescind the administrative review in part, with respect to these companies because there were no suspended entries of subject merchandise during the POR and invited interested parties to comment.¹² No interested party submitted comments in response to this notice. Accordingly, in the absence of suspended entries of subject merchandise during the POR for these companies for which this review was initiated, we are hereby rescinding this administrative review, in part, with respect to these five companies, in accordance with 19 CFR 351.213(d)(3).

¹¹ See Memorandum, “Release of U.S. Customs and Border Protection Entry Data,” dated July 5, 2024.

¹² See Memorandum, “Notice of Intent to Rescind Review, in Part,” dated August 5, 2025.

Methodology

Commerce is conducting this review in accordance with sections 751(a)(1)(B) and (2) of the Tariff Act of 1930, as amended (the Act). Export price is calculated in accordance with section 772 of the Act. NV is calculated in accordance with section 773 of the Act.

Rate for Non-Individually Examined Companies

The Act and Commerce's regulations do not address the establishment of a rate to apply to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review.

Under section 735(c)(5)(A) of the Act, the all-others rate is normally an amount equal to the weighted average of the estimated weighted-average dumping margins established for exporters and producers individually investigated, excluding any rates that are zero, de minimis (i.e., less than 0.5 percent), or determined entirely on the basis of facts available. Where the weighted-average dumping margin for each of the individually examined companies is zero, de minimis, or based entirely on facts available, section 735(c)(5)(B) of the Act provides that Commerce may use “any reasonable method to establish the estimated all-others rate for exporters and producers not individually investigated, including averaging the estimated weighted-average dumping margins determined for the exporters and producers individually investigated.”

In this administrative review, we preliminarily calculated a weighted-average dumping margin for Industeel, that is not zero, de minimis, or based entirely on facts available. Accordingly, we are preliminarily assigning to the company under review that was not selected for individual examination a weighted-average dumping margin equal to the weighted average dumping margin calculated for Industeel.

Preliminary Results of Review

We preliminarily determine that the following weighted-average dumping margins exist for the period May 1, 2023, through April 30, 2024:

Producer or exporter | Weighted- average dumping margin (percent)
Industeel Belgium S.A | 5.22
NLMK Belgium | 5.22

Disclosure

Commerce intends to disclose its calculations and analysis performed to interested parties for these preliminary results within five days of any public announcement or, if there is no public announcement, within five days of the date of publication of this notice in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice.¹³ Rebuttal briefs, limited to issues raised in the case briefs, may be filed not later than five days after the date for filing case briefs.¹⁴ Interested parties who submit case briefs or rebuttal briefs in this proceeding must submit: (1) a table of contents listing each issue; and (2) a table of authorities.¹⁵ All briefs must be filed electronically using ACCESS. An electronically filed document must be received successfully in its entirety in ACCESS by 5:00 p.m. Eastern Time on the established deadline. As provided under 19 CFR 351.309(c)(2) and (d)(2), in prior proceedings we have encouraged interested parties to provide an executive summary of their briefs that should be limited to five pages total, including footnotes. In this review, we instead request that interested parties provide at the beginning of their briefs a public, executive summary for each issue raised in their briefs.¹⁶ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁷

¹³ See 19 CFR 351.309.

¹⁴ See 19 CFR 351.309(d); see also Administrative Protective Order, Service, and Other Procedures in Antidumping and Countervailing Duty Proceedings, 88 FR 67069, 67077 (September 29, 2023) (APO and Service Procedures).

¹⁵ See 19 CFR 351.309(c)(2) and (d)(2).

¹⁶ We use the term “issue” here to describe an argument Commerce would normally address in a comment of the Issues and Decision Memorandum.

¹⁷ See Administrative Protective Order, Service, and Other Procedures in Antidumping and Countervailing Duty Proceedings, 88 FR 67069, 67077 (September 29, 2023).

Pursuant to 19 CFR 351.310(c), interested parties who wish to request a hearing must submit a written request to the Assistant Secretary for Enforcement and Compliance, U.S. Department of Commerce, filed electronically via ACCESS within 30 days after the date of publication of this notice.¹⁸ Hearing requests should contain: (1) the party's name, address, and telephone number; (2) the number of participants; and (3) a list of issues to be discussed. Issues raised in the hearing will be limited to issues raised in the briefs. If a request for a hearing is made, Commerce intends to hold the hearing at a date and time to be determined.¹⁹ Parties should confirm by telephone the date and time of the hearing two days before the scheduled date. An electronically filed document must be received successfully in its entirety by ACCESS by 5:00 p.m. Eastern Time on the established deadline.

¹⁸ See 19 CFR 351.310(c).

¹⁹ See 19 CFR 351.310(d).

Assessment Rates

Pursuant to section 751(a)(2)(A) of the Act, upon completion of the final results of this administrative review, Commerce shall determine, and CBP shall assess, antidumping duties on all appropriate entries of subject merchandise covered by this review.²⁰ If the weighted-average dumping margin for Industeel is not zero or de minimis (i.e., less than 0.5 percent) in the final results of this review, and because Industeel reported entered values for all of its sales, Commerce intends to calculate importer-specific ad valorem assessment rates based on the ratio of the total amount of dumping calculated for each importer's examined sales to the total entered value of those sales, in accordance with 19 CFR 351.212(b)(1). We intend to instruct CBP to assess antidumping duties on all appropriate entries covered by this review when the importer-specific assessment rate calculated in the final results of this review is above de minimis (i.e., 0.50 percent). If Industeel's overall weighted-average dumping margin is zero or de minimis or where an importer-specific ad valorem assessment rate is zero or de minimis in the final results of review, we intend to instruct CBP to liquidate the appropriate entries without regard to antidumping duties.²¹

²⁰ See 19 CFR 351.212(b)(1).

²¹ See 19 CFR 351.106(c)(2); see also Antidumping Proceedings: Calculation of the Weighted-Average Dumping Margin and Assessment Rate in Certain Antidumping Proceedings; Final Modification, 77 FR 8101, 8103 (February 14, 2012).

For entries of subject merchandise during the POR produced by Industeel for which it did not know that the merchandise was destined for the United States, we intend to instruct CBP to liquidate unreviewed entries at the all-others rate established in the original less-than-fair-value (LTFV) investigation (i.e., 5.40 percent) ²² if there is no rate for the intermediate company(ies) involved in the transaction.²³

²² See Order, 82 FR 24096.

²³ For a full discussion of this practice, see Antidumping and Countervailing Duty Proceedings: Assessment of Antidumping Duties, 68 FR 23954 (May 6, 2003).

For NLMK Belgium, we will assign an assessment rate based on the review-specific rate, calculated as noted in the “Preliminary Results of Review” section, above. The final results of this review shall be the basis for the assessment of antidumping duties on entries of merchandise covered by the final results of this review and for future deposits of estimated duties, where applicable.²⁴

²⁴ See section 751(a)(2)(C) of the Act.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective upon publication in the Federal Register of the notice of final results of this administrative review for all shipments of the subject merchandise entered, or withdrawn from warehouse, for consumption on or after the date of publication, as provided by section 751(a)(2)(C) of the Act: (1) the cash deposit rate for Industeel will be equal to the weighted-average dumping margin established in the final results of this review, except if the rate is less than 0.50 percent and, therefore, de minimis within the meaning of 19 CFR 351.106(c)(1), in which case the cash deposit rate will be zero; (2) for merchandise exported by a company not covered in this review but covered in a prior segment of the proceeding, the cash deposit rate will continue to be the company-specific cash deposit rate published in the completed segment for the most recent period; (3) if the exporter is not a firm covered in this review, or a previous segment, but the producer is, then the cash deposit rate will be the rate established in the completed segment for the most recent period for the producer of the merchandise; and (4) the cash deposit rate for all other producers or exporters will continue to be 5.40 percent, the all-others rate established in the less-than-fair-value investigation.²⁵ These deposit requirements, when imposed, shall remain in effect until further notice.

²⁵ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096, 24098 (May 25, 2017).

Final Results of Review

Unless the deadline is otherwise extended, Commerce intends to issue the final results of this administrative review, including the results of its analysis of issues raised by interested parties in the written comments, within 120 days of publication of these preliminary results in the Federal Register.²⁶

²⁶ See section 751(a)(3)(A) of the Act; see also 19 CFR 351.213(h)(1).

Notification to Importers

This notice serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

We are issuing and publishing these preliminary results in accordance with sections 751(a)(1) and 777(i)(1) of the Act, and 19 CFR 351.213 and 19 CFR 351.221(b)(4).

Dated: September 5, 2025.
Christopher Abbott,
Deputy Assistant Secretary for Policy and Negotiations, performing the non-exclusive functions and duties of the Assistant Secretary for Enforcement and Compliance.

Appendix

List of Topics Discussed in the Preliminary Decision Memorandum

I. Summary

II. Background

III. Scope of the Order

IV. Discussion of the Methodology

V. Currency Conversion

VI. Recommendation

[FR Doc. 2025-17547 Filed 9-10-25; 8:45 am]

BILLING CODE 3510-DS-P